DEPARTMENT OF EDUCATION

Notice of Proposed Information Collection Requests

AGENCY: Department of Education.

ACTION: Comment request.

SUMMARY: The Department of Education (the Department), in accordance with the Paperwork Reduction Act of 1995 (PRA) (44 U.S.C. 3506(c)(2)(A)), provides the general public and Federal agencies with an opportunity to comment on proposed and continuing collections of information. This helps the Department assess the impact of its information collection requirements and minimize the reporting burden on the public and helps the public understand the Department's information collection requirements and provide the requested data in the desired format. The Director, Information Collection Clearance Division, Regulatory Information Management Services, Office of Management, invites comments on the proposed information collection requests as required by the Paperwork Reduction Act of 1995.

DATES: Interested persons are invited to submit comments on or before April 26, 2011.

ADDRESSES: Comments regarding burden and/or the collection activity requirements should be electronically mailed to ICDocketMgr@ed.gov or mailed to U.S. Department of Education, 400 Maryland Avenue, SW., LBJ, Washington, DC 20202-4537. Please note that written comments received in response to this notice will be considered public records.

SUPPLEMENTARY INFORMATION: Section 3506 of the Paperwork Reduction Act of 1995 (44 U.S.C. chapter 35) requires that Federal agencies provide interested parties an early opportunity to comment on information collection requests. The Director, Information Collection Clearance Division, Regulatory Information Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: February 22, 2011.
Darrin A. King,
Director, Information Collection Clearance Division, Regulatory Information Management Services, Office of Management.

Institute of Education Sciences

Type of Review: Revision.

Title of Collection: Conversion Magnet Schools Evaluation Revision

OMB Control Number: 1850-0832.

Agency Form Number(s): N/A.

Frequency of Responses: On occasion.

Affected Public: Not-for-profit institutions

Total Estimated Number of Annual Responses: 20.

Total Estimated Number of Annual Burden Hours: 280.

Abstract: The Conversion Magnet Schools Evaluation is being conducted to determine if efforts to turn around low-performing schools through converting to a Magnet Schools Assistance Program supported magnet school are associated with improved student achievement and the reduction in minority group isolation. The Institute of Education Sciences, in collaboration with the Office of Innovation and Improvement, initiated the study due to the popularity and persistence of magnet programs and the inconclusive research on the relationship of these programs to important student outcomes. The study will use quasi-experimental designs to explore the relationship between magnet programs and student achievement both for “resident” students who attend magnet schools as their neighborhood schools and, if possible, for non-resident students. Data collection includes student records data, principal surveys, and project director interviews. The U.S. Department of Education has commissioned American Institutes for Research to conduct this study.

An Office of Management and Budget (OMB) clearance request that (1) described the study design and full data collection activities and (2) requested approval for the burden associated with the first three years of data collection was approved in 2007 (OMB Number 1850-0832 approval 7/13/07; expiration 7/31/10). In 2010, we requested clearance for the burden associated with the fourth and fifth year of data collection necessary for the rigorous comparative interrupted time series design including student records data collection for the 2009-2010 school year (OMB Number 1850-0832 approval 6/14/10; expiration 6/30/13). We are now requesting clearance for the burden associated with one additional round of student records data collection (student records data from the 2010-2011 school year) from participating districts due to the later than expected implementation of the magnet programs in the 2007 grantee cohort.

Copies of the proposed information collection request may be accessed from http://edicsweb.ed.gov, by selecting the “Browse Pending Collections” link and by clicking on link number 4516. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

[FR Doc. 2011-4254 Filed 2-24-11; 8:45 am]

BILLING CODE 4000-01-P